DEPARTMENT OF TRANSPORTATION

Federal Highway Administration

Notice To Rescind the Notice of Intent To Prepare a Limited Scope Supplemental Environmental Impact Statement: Interstate 55 Interchange in Shelby County, Tennessee

AGENCY: Federal Highway Administration (FHWA), DOT.

ACTION: Notice to rescind the Notice of Intent to prepare a Limited Scope Supplemental Environmental Impact Statement.

SUMMARY: The FHWA is issuing this notice to advise the public that the Notice of Intent (NOI) published on August 31, 2015, to prepare a Limited Scope Supplemental Environmental Impact Statement (LSSEIS) for the proposed improvements to the Interstate 55 (I-55) interchange at E.H. Crump Boulevard in the City of Memphis, Shelby County, Tennessee, is being rescinded.

FOR FURTHER INFORMATION CONTACT: Ms. Theresa Claxton, Program Development Team Leader, Federal Highway Administration, Tennessee Division Office, 404 BNA Drive, Suite 508, Nashville, TN 37217, Telephone: 615-781-5770.

SUPPLEMENTARY INFORMATION: The FHWA, in cooperation with the Tennessee Department of Transportation (TDOT), is rescinding the NOI to prepare an LSSEIS for proposed improvements to the I-55 interchange at E.H. Crump Boulevard in the City of Memphis, Shelby County, Tennessee. The Selected Alternative consists of replacing the existing cloverleaf interchange with a new interchange configuration that will provide through lanes for mainline I-55 traffic, eliminating the need for interstate traffic to use single-lane, low speed ramps to continue on I-55. A new multi-lane roundabout interchange will be constructed, replacing the existing cloverleaf interchange, providing improved access to and from I-55 and existing local roadways.

The Final Environmental Impact Statement (FEIS) was approved on June 28, 2011. On January 25, 2012, FHWA issued a Record of Decision (ROD) identifying the Selected Alternative and the reasons for its selection. Following the issuance of the ROD, TDOT determined that a total closure of the I-55 Bridge over the Mississippi River (Memphis-Arkansas Bridge) for up to 9 months may be necessary. A Reevaluation of the FEIS was initiated to further explore the proposed construction phasing of the project. Through this process, TDOT, in coordination with FHWA, determined that the proposed construction phasing could result in potentially significant impacts not previously assessed and disclosed in the EIS. Therefore, TDOT concluded the Reevaluation with the determination that a LSSEIS should be undertaken. The NOI to develop the LSSEIS was published on August 31, 2015.

Since the publication of the NOI, TDOT has taken several major steps to advance the project towards construction including the decision to not pursue the total closure of the I-55 Bridge for up to 9 months during construction of the project. Because the previously proposed option for a total closure of the I-55 Bridge for up to 9 months was the primary reason for developing a LSSEIS, TDOT, in coordination with FHWA has determined that an LSSEIS is no longer warranted and that a Reevaluation of the FEIS will now be prepared. Therefore, the August 31, 2015 NOI is being rescinded.

The Reevaluation will fully evaluate impacts to humans and to the natural environment and will evaluate changes to the proposed project since the issuance of the ROD.

Comments and questions concerning the proposed action should be directed to the FHWA contact person at the address provided above.

Issued on: October 29, 2019.
Pamela M. Kordenbrock,
Division Administrator, Nashville, TN.

[FR Doc. 2019-24031 Filed 11-1-19; 8:45 am]

BILLING CODE 4910-22-P